DEPARTMENT OF HOMELAND SECURITY

Bureau of Customs and Border Protection

Cancellation of Customs Broker License Due to Death of the License Holder

AGENCY: Bureau of Customs and Border Protection, Department of Homeland Security.

ACTION: General notice.

SUMMARY: Notice is hereby given that, pursuant to Title 19 of the Code of Federal Regulations § 111.51(a), the following individual Customs broker licenses and any and all permits have been cancelled due to the death of the broker:

Name | License # | Port name
Nardo Soriano | 9216 | San Francisco.
Ronald C. Spitz | 3988 | New York.
Irwin M. Wortman | 3243 | New York.

Dated: January 12, 2005.
Jayson P. Ahern,
Assistant Commissioner, Office of Field Operations.

[FR Doc. 05-1100 Filed 1-19-05; 8:45 am]

BILLING CODE 4820-02-P